DEPARTMENT OF HEALTH AND HUMAN SERVICES

Agency for Healthcare Research and Quality

Subcommittee Meetings

AGENCY: Agency for Healthcare Research and Quality (AHRQ), HHS.

ACTION: Notice of Five AHRQ Subcommittee Meetings.

SUMMARY: The subcommittees listed below are part of AHRQ's Health Services Research Initial Review Group Committee. Grant applications are to be reviewed and discussed at these meetings. These meetings will be closed to the public in accordance with 5 U.S.C. App. 2 section 10(d), 5 U.S.C. 552b(c)(4), and 5 U.S.C. 552b(c)(6).

DATES: See below for dates of meetings:

1. Health System and Value Research (HSVR)

Date: February 13, 2013 (Open from 8:30 a.m. to 8:45 a.m. on February 13 and closed for remainder of the meeting)

2. Healthcare Safety and Quality Improvement Research (HSQR)

Date: February 13-14, 2013 (Open from 8:30 a.m. to 8:45 a.m. on February 13 and closed for remainder of the meeting)

3. Health Care Research and Training (HCRT)

Date: February 21-22, 2013 (Open from 8:30 a.m. to 8:45 a.m. on February 21 and closed for remainder of the meeting)

4. Healthcare Information Technology Research (HITR)

Date: February 21-22, 2013 (Open from 8:30 a.m. to 8:45 a.m. on February 21 and closed for remainder of the meeting)

5. Healthcare Effectiveness and Outcomes Research (HEOR)

Date: March 13-14, 2013 (Open from 8:30 a.m. to 8:45 a.m. on March 13 and closed for remainder of the meeting)

ADDRESSES: The five meetings will take place at the following locations:

HSVR and HSQR

Hyatt Regency Hotel Bethesda, One Metro Center, Bethesda, MD 20814

HCRT and HITR

Hilton Washington DC/Rockville Hotel & Executive Meeting Center, 1750 Rockville Pike, Rockville, MD 20852

HEOR

Gaithersburg Marriott Washingtonian Center, 9751 Washingtonian Boulevard, Gaithersburg, Maryland 20878

FOR FURTHER INFORMATION CONTACT: (to obtain a roster of members, agenda or minutes of the non-confidential portions of the meetings.) Mrs. Bonnie Campbell, Committee Management Officer, Office of Extramural Research Education and Priority Populations, AHRQ, 540 Gaither Road, Suite 2000, Rockville, Maryland 20850, Telephone (301) 427-1554

SUPPLEMENTARY INFORMATION: In accordance with section 10(a)(2) of the Federal Advisory Committee Act (5 U.S.C. App. 2), AHRQ announces meetings of the scientific peer review groups listed above, which are subcommittees of AHRQ's Health Services Research Initial Review Group Committee. The subcommittee meetings will be closed to the public in accordance with the provisions set forth in 5 U.S.C. App. 2 section 10(d), 5 U.S.C. 552b(c)(4), and 5 U.S.C. 552b(c)(6) The grant applications and the discussions could disclose confidential trade secrets or commercial property such as patentable material, and personal information concerning individuals associated with the grant applications, the disclosure of which would constitute a clearly unwarranted invasion of personal privacy.

Agenda items for these meetings are subject to change as priorities dictate.

Dated: January 17, 2013.
Carolyn M. Clancy,
Director.

[FR Doc. 2013-01334 Filed 1-23-13; 8:45 am]

BILLING CODE 4160-90-M